DEPARTMENT OF TRANSPORTATION

National Highway Traffic Safety Administration

[Docket No. NHTSA 2002-11882; Notice 1]

Michelin North America, Inc.; Receipt of Application for Decision of Inconsequential Noncompliance

Michelin North America, Inc., (Michelin) has determined that approximately 385 275/80 R 22.5 Michelin PXZE TL LRG tires do not meet the labeling requirements mandated by Federal Motor Vehicle Safety Standard (FMVSS) No. 119, “New pneumatic tires for vehicles other than passenger cars.”

Pursuant to 49 U.S.C. 30118(d) and 30120(h), Michelin has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

During the period of the 42nd week of 2001 through the 44th week of 2001, the Kentville, Nova Scotia, Canada plant of Michelin North America (Canada) Inc., produced a number of tires where, on one side of the tire, the maximum load rating information was substituted for the tire inflation pressure information. This condition does not meet the requirements of FMVSS No. 119, S6.5(d).

The required marking reads:

Max Load Single 2800kg (6175 lbs) at 760 kPa (110 psi) cold

Max Load Dual 2575 kg (5675 lbs) at 760 kPa (110 psi) cold

The noncompliant tires were marked on one side as below:

Max Load Single 2800 kg (6175 lbs) 2800 kg (6175 lbs)

Max Load Dual 2575 kg (5675 lbs) 2575 kg (5675 lbs)

The opposite side of the tire was correctly marked.

Of the 385 noncompliant tires, approximately 283 tires may have been delivered to end-users. The remaining tires have been isolated in Michelin's warehouses and will be brought into full compliance with the marking requirement of FMVSS No. 119 or scrapped.

Michelin does not believe that this marking error will impact motor vehicle safety because the tires meet all Federal Motor Vehicle Safety performance standards. The routine source of tire inflation pressure is not the tire sidewall marking. Typically the proper inflation pressures are obtained from the vehicle owner's manual, manufacturer's or industry standards publications or from the vehicle placard, thus the source of the property inflation is readily available to the user.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, notice of the decision will be published in the Federal Register pursuant to the authority indicated below. Comment closing date: May 2, 2002.

(49 U.S.C. 301118, 301120; delegations of authority at 49 CFR 1.50 and 501.8)
Issued on: March 28, 2002.
Stephen R. Kratzke,
Associate Administrator, for Safety Performance Standards.

[FR Doc. 02-7961 Filed 4-1-02; 8:45 am]

BILLING CODE 4910-59-P